DEPARTMENT OF VETERANS AFFAIRS

[OMB Control No. 2900-0059]

Agency Information Collection Activity Under OMB Review: Statement of Person Claiming To Have Stood in Relation of Parent (VA Form 21P-524)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by search function. Refer to “OMB Control No. 2900-0059.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0059” in any correspondence.

SUPPLEMENTARY INFORMATION:

Authority: 38 U.S.C. 1310 & 1315.

Title: Statement of Person Claiming to Have Stood in Relation to Parent.

OMB Control Number: 2900-0059.

Type of Review: Reinstatement of a previously approved collection.

Abstract: 38 U.S.C. 1315 established Dependency Indemnity Compensation to Parents (known as Parents' DIC). Parent's DIC is a monthly benefit payable to the parent(s) of a deceased Veteran. The payable monthly benefit is based on the parent's (parents') annual income. Additional funds are payable to the parent(s) if they are in a patient in a nursing home, blind, so nearly blind or significantly disabled as to need or require the regular aid and attendance of another person.

38 CFR 3.59 defines the term parent as “. . . a natural mother or father (including the mother of an illegitimate child or the father of an illegitimate child if the usual family relationship existed), mother or father through adoption, or a person who for a period of not less than 1 year stood in the relationship of a parent to a Veteran at any time before his or her entry into active service.”

The information collected will be used by VBA to evaluate a claimant's parental relationship to a deceased Veteran when the claimant is not the Veteran's natural mother or father or adopted mother or father.

Federal Register Notice with a 60-day comment period soliciting comments on this collection of information was published at 85 FR, 197 on October 9th, 2020, page 64231.

Affected Public: Individuals or Households.

Estimated Annual Burden: 800.

Estimated Average Burden per Respondent: 2 Hours (120) minutes.

Frequency of Response: One time.

Estimated Number of Respondents: 200.

By direction of the Secretary.
Danny S. Green,
VA PRA Clearance Officer, Office of Quality, Performance and Risk, Department of Veterans Affairs.

[FR Doc. 2020-28185 Filed 12-21-20; 8:45 am]

BILLING CODE 8320-01-P